DEPARTMENT OF HEALTH AND HUMAN SERVICES

Centers for Disease Control and Prevention

Safety and Occupational Health Study Section; Notice of Charter Renewal

AGENCY: Centers for Disease Control and Prevention (CDC), Department of Health and Human Services (HHS).

ACTION: Notice of charter renewal.

SUMMARY: The Centers for Disease Control and Prevention (CDC), within the Department of Health and Human Services (HHS), announces the renewal of the charter of the Safety and Occupational Health Study Section (SOHSS).

FOR FURTHER INFORMATION CONTACT: Joanne Fairbanks, Designated Federal Officer, Safety and Occupational Health Study Section, Centers for Disease Control and Prevention, Department of Health and Human Services, 1095 Willowdale Road, Morgantown, West Virginia 26505. Telephone: (304) 285-6143; Email: JFairbanks@cdc.gov.

SUPPLEMENTARY INFORMATION: CDC is providing notice under 5 U.S.C. 1001 through 1014 of the renewal of the charter of the Safety and Occupational Health Study Section, Centers for Disease Control and Prevention, Department of Health and Human Services. This charter has been renewed for a two-year period through June 30, 2026.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-15796 Filed 7-17-24; 8:45 am]

BILLING CODE 4163-18-P